DEPARTMENT OF THE INTERIOR

National Park Service

[NPS-WASO-NAGPRA-NPS0040483; PPWOCRADN0-PCU00RP14.R50000]

Notice of Intended Repatriation: Ball State University, Muncie, IN

AGENCY: National Park Service, Interior.

ACTION: Notice.

SUMMARY: In accordance with the Native American Graves Protection and Repatriation Act (NAGPRA), Ball State University (BSU) intends to repatriate certain cultural items that meet the definition of objects of cultural patrimony and that have a cultural affiliation with the Indian Tribes or Native Hawaiian organizations in this notice.

DATES: Repatriation of the cultural items in this notice may occur on or after August 11, 2025.

ADDRESSES: Send additional, written requests for repatriation of the cultural items in this notice to Chyan Gilaspy, Ball State University, Applied Anthropology Laboratories, 2000 W Riverside Avenue, Muncie, IN 47306, email NAGPRA@bsu.edu.

SUPPLEMENTARY INFORMATION: This notice is published as part of the National Park Service's administrative responsibilities under NAGPRA. The determinations in this notice are the sole responsibility of BSU and additional information on the determinations in this notice, including the results of consultation, can be found in the summary or related records. The National Park Service is not responsible for the determinations in this notice.

Abstract of Information Available

A total of 22 cultural items associated with 21 accession numbers have been requested for repatriation. The 22 of objects of cultural patrimony includes nine articles of clothing (moccasins, dress, vest, sash, belt, cuffs), four dolls, one lot of trade beads, five bags (parfleche, tipi, pipe), one ladle, one navel amulet, and one pipe bowl. The items are part of five separate donations from three private donors in 1983, 2013, and 2018. Six items had no known affiliation or geographic information in accession records. The remaining items had minimal provenance or potential affiliation data in the records. The suspected affiliations were generic, e.g., one sash was listed as “unknown Plains”, one belt was listed as “Assiniboine, Montana”, one tipi bag was listed as “Cheyenne or Lakota, Plains”, and the remaining 13 items were listed as “Lakota, Plains”. There are no institutional records indicating hazardous substances were used to treat any of the cultural items listed, but requested XRF testing indicated the presence of arsenic, lead, and/or mercury on the items tested.

Determinations

BSU has determined that:

• The 22 objects of cultural patrimony described in this notice have ongoing historical, traditional, or cultural importance central to the Native American group, including any constituent sub-group (such as a band, clan, lineage, ceremonial society, or other subdivision), according to the Native American traditional knowledge of an Indian Tribe or Native Hawaiian organization.

• There is a reasonable connection between the cultural items described in this notice and the Assiniboine and Sioux Tribes of the Fort Peck Indian Reservation, Montana.

Requests for Repatriation

Additional, written requests for repatriation of the cultural items in this notice must be sent to the authorized representative identified in this notice under ADDRESSES. Requests for repatriation may be submitted by any lineal descendant, Indian Tribe, or Native Hawaiian organization not identified in this notice who shows, by a preponderance of the evidence, that the requestor is a lineal descendant or a culturally affiliated Indian Tribe or Native Hawaiian organization.

Repatriation of the cultural items in this notice to a requestor may occur on or after August 11, 2025. If competing requests for repatriation are received, BSU must determine the most appropriate requestor prior to repatriation. Requests for joint repatriation of the cultural items are considered a single request and not competing requests. BSU is responsible for sending a copy of this notice to the Indian Tribes and Native Hawaiian organizations identified in this notice and to any other consulting parties.

Authority: Native American Graves Protection and Repatriation Act, 25 U.S.C. 3004 and the implementing regulations, 43 CFR 10.9.

Dated: June 25, 2025.
Melanie O'Brien,
Manager, National NAGPRA Program.

[FR Doc. 2025-12838 Filed 7-9-25; 8:45 am]

BILLING CODE 4312-52-P